DEPARTMENT OF AGRICULTURE

Forest Service

Huron-Manistee Resource Advisory Committee

AGENCY: Forest Service, Agriculture (USDA).

ACTION: Notice of meeting.

SUMMARY: The Huron-Manistee Resource Advisory Committee (RAC) will hold a public meeting according to the details shown below. The committee is authorized under the Secure Rural Schools and Community Self-Determination Act (the Act) and operates in compliance with the Federal Advisory Committee Act (FACA). The purpose of the committee is to improve collaborative relationships and to provide advice and recommendations to the Forest Service concerning projects and funding consistent with Title II of the Act as well as to make recommendations on recreation fee proposals for sites on the Huron-Manistee National Forests, consistent with the Federal Lands Recreation Enhancement Act. General information can be found at the following website: https://www.fs.usda.gov/working-with-us/secure-rural-schools.

DATES: The meeting will be held on July 12, 2022, 6:00 p.m.-10:00 p.m., Eastern Daylight Time. All RAC meetings are subject to cancellation. For status of the meeting prior to attendance, please contact the person listed under For Further Information Contact.

ADDRESSES: The meeting will have two locations. For Oscoda County, the meeting will be held at 107 McKinley Road, Mio, Michigan 48647. For Wexford County, the meeting will be held at 1755 S Mitchell Street, Cadillac, Michigan 49601.

Members of the public also have the option to join virtually by dialing 1-202-650-0123 and using access code 942008083#.

Written comments may be submitted as described under Supplementary Information. All comments, including names and addresses when provided, are placed in the record and are available for public inspection and copying. The public may inspect comments received upon request.

FOR FURTHER INFORMATION CONTACT: Greyling Brandt, Designated Federal Officer (DFO), by phone at 989-826-3252 or email at greyling.brandt@usda.gov.

Individuals who use telecommunication devices for the deaf and hard of hearing (TDD) may call the Federal Relay Service (FRS) at 1-800-877-8339, 24 hours a day, every day of the year, including holidays. Persons with disabilities who require alternative means of communication for program information (e.g., Braille, large print, audiotape, American Sign Language, etc.) should contact the responsible Agency or USDA's TARGET Center at (202) 720-2600 (voice and TTY). Additionally, program information may be made available in languages other than English.

SUPPLEMENTARY INFORMATION: The purpose of the meeting is to review all project propoals received by the Huron Manistee RAC.

The meeting is open to the public. The agenda will include time for people to make oral statements of three minutes or less. Individuals wishing to make an oral statement should make a request in writing at least three days prior to the meeting date to be scheduled on the agenda. Anyone who would like to bring related matters to the attention of the committee may file written statements with the committee staff before or after the meeting. Written comments and requests for time for oral comments must be sent to Greyling Brandt, 107 McKinley Road, Mio, Michigan 48647 or by email to greyling.brandt@usda.gov.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken in account the needs of the diverse groups served by USDA, membership shall include to the extent possible, individuals with demonstrated ability to represent minorities, women, and persons with disabilities. USDA is an equal opportunity provider, employer, and lender.

Dated: June 7, 2022.
Cikena Reid,
USDA Committee Management Officer.

[FR Doc. 2022-12662 Filed 6-10-22; 8:45 am]

BILLING CODE 3411-15-P